COMMISSION ON CIVIL RIGHTS

Agenda and Notice of Public Meeting of the Idaho Advisory Committee

Notice is hereby given, pursuant to the provisions of the rules and regulations of the U.S. Commission on Civil Rights (Commission), and the Federal Advisory Committee Act (FACA), that a planning meeting of the Idaho Advisory Committee to the Commission will convene at 1:30 p.m. and adjourn at approximately 4:30 p.m. on Thursday, March 3, at the Boise Public Library, 715 S. Capitol Boulevard, Boise, ID 83702. The purpose of the meeting is for the committee to receive orientation and plan future activities.

Members of the public are entitled to submit written comments; the comments must be received in the Western Regional Office of the Commission by Friday, April 1, 2011. The address is 300 N. Los Angeles St., Suite 2010, Los Angeles, California 90012. Persons wishing to e-mail their comments or who desire additional information should contact Angelica Trevino, Administrative Assistant, at (213) 894-3437 or (800) 877-8339 for individuals who are deaf, hearing impaired, and/or have speech disabilities or by e-mail to: atrevino@usccr.gov.

Hearing-impaired persons who wish to submit written comments and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, February 11, 2011.
Peter Minarik,
Acting Chief, Regional Programs Coordination Unit.

[FR Doc. 2011-3478 Filed 2-15-11; 8:45 am]

BILLING CODE 6335-01-P